INTERNATIONAL TRADE COMMISSION

[Investigation Nos. 701-TA-451 and 731-TA-1126 (Second Review)]

Lightweight Thermal Paper From China; Determination

On the basis of the record ¹ developed in the subject five-year reviews, the United States International Trade Commission (“Commission”) determines, pursuant to the Tariff Act of 1930 (“the Act”), that revocation of the countervailing duty and antidumping duty orders on lightweight thermal paper from China would be likely to lead to continuation or recurrence of material injury to an industry in the United States within a reasonably foreseeable time.

¹ The record is defined in § 207.2(f) of the Commission's Rules of Practice and Procedure (19 CFR 207.2(f)).

Background

The Commission instituted these reviews on December 2, 2019 (84 FR 66012) and determined on March 6, 2020 that it would conduct expedited reviews (85 FR 29974, May 19, 2020).

The Commission made these determinations pursuant to section 751(c) of the Act (19 U.S.C. 1675(c)). It completed and filed its determinations in these reviews on June 23, 2020. The views of the Commission are contained in USITC Publication 5070 (June 2020), entitled Lightweight Thermal Paper from China: Investigation Nos. 701-TA-451 and 731-TA-1126 (Second Review).

By order of the Commission.
Issued: June 23, 2020.
Lisa Barton,
Secretary to the Commission.

[FR Doc. 2020-13854 Filed 6-26-20; 8:45 am]

BILLING CODE 7020-02-P